DEPARTMENT OF COMMERCE

International Trade Administration

[A-570-865]

Certain Hot-Rolled Carbon Steel Flat Products From the People's Republic of China: Preliminary Intent To Rescind the Review

AGENCY: Import Administration, International Trade Administration, Department of Commerce.

SUMMARY: The Department of Commerce (“Department”) is conducting an administrative review of the antidumping duty order on certain hot-rolled carbon steel flat products (“hot-rolled”) from the People's Republic of China (“PRC”) for the period of review (“POR”) November 1, 2009, through October 31, 2010. As discussed below, we preliminarily intend to rescind this review.

DATES: Effective Date: August 8, 2011.

FOR FURTHER INFORMATION CONTACT: Paul Walker or Steven Hampton, AD/CVD Operations, Office 9, Import Administration, International Trade Administration, Department of Commerce, 14th Street and Constitution Avenue, NW., Washington, DC 20230; telephone: (202) 482-0413 or (202) 482-0116, respectively.

SUPPLEMENTARY INFORMATION:

Background

On November 29, 2001, the Department published the antidumping duty order on hot-rolled from the PRC. See Notice of the Antidumping Duty Order: Certain Hot-Rolled Carbon Steel Flat Products From the People's Republic of China, 66 FR 59561 (November 29, 2001) (“Order”). On November 30, 2010, Nucor Corporation (“Nucor”), domestic producers of hot-rolled, requested that the Department conduct an administrative review of Baosteel Group Corporation, Shanghai Baosteel International Economic & Trading Co., Ltd., and Baoshan Iron and Steel Co., Ltd. (collectively “Baosteel”).¹ On December 28, 2010, the Department published in the Federal Register a notice of initiation for an administrative review of the Order for the period November 1, 2009, through October 31, 2010.² On February 4, 2011, the Department released the U.S. Customs and Border Protection (“CBP”) data to parties for comments. On February 10, 2011, Baosteel requested that the Department obtain the customs entry and commercial invoice documents pertaining to the CBP data. On February 17, 2011, Baosteel submitted comments on the CBP data. Baosteel claimed that it did not export subject merchandise during the POR and the CBP information is either incorrect or relates to non-subject merchandise which may have been misclassified. On March 17, 2011, the Department released the U.S. entry documents that it obtained from CBP. On March 24, 2011, Nucor submitted comments on the U.S. entry documents and asked the Department to issue a full questionnaire to Baosteel. On March, 28, 2011, Baosteel submitted rebuttal comments to Nucor's March 24, 2011 submission. Baosteel claimed that the entry documents do not reveal that Baosteel sold subject merchandise to the United States. On June 2, 2011, the Department released the test report and mill certificate for the merchandise at issue, which it obtained from CBP. On June 14, 2011, Nucor submitted comments on the test report and mill certificate. Nucor argued that subject merchandise entered the United States and stated that the Department should issue questionnaires to Baosteel. On June 14, 2011, Baosteel also submitted comments on the test report and mill certificate. Baosteel argued that the mere fact that Baosteel is the manufacturer of the product does not show that Baosteel made sales of subject merchandise to the United States. On June 16, 2011, Baosteel submitted comments with an excerpt from a recent determination in which the Department clearly stated its policy regarding its knowledge test for NME purposes.³

¹ See Certain Hot-Rolled Carbon Steel Flat Products from the People's Republic of China: Final Rescission of Antidumping Duty Administrative Review, 74 FR 40165 (August 11, 2009), at n.1.

² See Initiation of Antidumping and Countervailing Duty Administrative Reviews and Request for Revocation In Part, 75 FR 81565 (December 28, 2010).

³ Certain Oil Country Tubular Goods from the People's Republic of China: Final Determination of Sales at Less Than Fair Value, Affirmative Final Determination of Critical Circumstances and Final Determination of Targeted Dumping, 75 FR 20335 (April 19, 2010), and accompanying Issues and Decision Memorandum at Comment 31.

Scope of the Order

The products covered by the order are certain hot-rolled carbon steel flat products of a rectangular shape, of a width of 0.5 inch or greater, neither clad, plated, nor coated with metal and whether or not painted, varnished, or coated with plastics or other non-metallic substances, in coils (whether or not in successively superimposed layers), regardless of thickness, and in straight lengths of a thickness of less than 4.75 mm and of a width measuring at least 10 times the thickness. Universal mill plate (i.e., flat-rolled products rolled on four faces or in a closed box pass, of a width exceeding 150 mm, but not exceeding 1250 mm, and of a thickness of not less than 4.0 mm, not in coils and without patterns in relief) of a thickness not less than 4.0 mm is not included within the scope of the order. Specifically included within the scope of the order are vacuum degassed, fully stabilized (commonly referred to as interstitial-free (“IF”)) steels, high strength low alloy (“HSLA”) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products included in the scope of the order, regardless of definitions in the Harmonized Tariff Schedule of the United States (“HTSUS”), are products in which: (i) iron predominates, by weight, over each of the other contained elements; (ii) the carbon content is 2 percent or less, by weight; and, (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical description provided above are within the scope of the order unless otherwise excluded. The following products, for example, are outside or specifically excluded from the scope of the order:

• Alloy hot-rolled steel products in which at least one of the chemical elements exceeds those listed above (including, e.g., American Society for Testing and Materials (“ASTM”) specifications A543, A387, A514, A517, A506).

• Society of Automotive Engineers (“SAE”)/American Iron & Steel Institute (“AISI”) grades of series 2300 and higher.

• Ball bearing steels, as defined in the HTSUS.

• Tool steels, as defined in the HTSUS.

• Silico-manganese (as defined in the HTSUS) or silicon electrical steel with a silicon level exceeding 2.25 percent.

• ASTM specifications A710 and A736.

• USS abrasion-resistant steels (USS AR 400, USS AR 500). All products (proprietary or otherwise) based on an alloy ASTM specification (sample specifications: ASTM A506, A507).

• Non-rectangular shapes, not in coils, which are the result of having been processed by cutting or stamping and which have assumed the character of articles or products classified outside chapter 72 of the HTSUS.

The merchandise subject to the order is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by the order, including: vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and customs purposes, the written description of the merchandise subject to the order is dispositive.

Preliminary Rescission of Review

The Department has analyzed all of the information on the record regarding alleged U.S. entries of subject merchandise during the POR by Baosteel. As noted above, the Department placed information on the record from CBP that indicated that subject merchandise produced by Baosteel may have entered the United States during the POR. Because the information found in the CBP documentation is proprietary, for further discussion of this issue please see the Memorandum to the File, through Scot T. Fullerton, Program Manager, from Steven Hampton, International Trade Analyst, “Certain Hot-Rolled Carbon Steel Flat Products from the People's Republic of China: Analysis of CBP Entry Documentation,” (“Analysis of CBP Entry Documentation”) dated concurrently with this notice. Based on its analysis of the record information, the Department preliminarily finds that the merchandise from the entry documentation is not subject to the scope of the antidumping duty order on hot-rolled carbon steel flat products from the PRC.⁴

Because there is no information on the record which indicates that Baosteel made sales, shipments, or entries to the United States of subject merchandise during the POR, and because Baosteel is the only company subject to this administrative review, in accordance with 19 CFR 351.213(d)(3) and consistent with our practice, we are preliminarily rescinding this review of the antidumping duty order on hot-rolled from the PRC for the period of November 1, 2009, through October 31, 2010.⁵ If the Department adopts these preliminary results for its final results, the cash deposit rate for Baosteel will continue to be the rate established in the most recently completed segment of this proceeding. If the Department continues to find for its final results that the merchandise is not subject to the scope of the antidumping duty order on certain hot-rolled carbon steel flat products from the PRC, we will refer this matter to CBP to determine the appropriate Customs classification for the merchandise in question.

⁴ See Analysis of CBP Entry Documentation.

⁵ See Final Rescission of Antidumping Duty Administrative Review: Certain Hot-Rolled Carbon Steel Flat Products from the People's Republic of China, 72 FR 41710 (July 31, 2007).

Comments

Interested parties may submit comments for consideration in the Department's final results not later than 30 days after publication of this notice. See 19 CFR 351.309(c)(ii). Responses to those comments may be submitted not later than five days following submission of the comments. See 19 CFR 351.309(d). All written comments must be submitted in accordance with 19 CFR 351.303, and must be served on interested parties on the Department's service list in accordance with 19 CFR 351.303(f)(3). Interested parties may also request a hearing within 30 days of publication of this notice. See 19 CFR 351.310. The Department will issue the final results of this administrative review, which will include the results of its analysis of issues raised in any such comments, within 120 days of publication of the preliminary results, and will publish these results in the Federal Register.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice is published in accordance with sections 751 and 777(i)(1) of the Tariff Act of 1930, as amended, and 19 CFR 351.213(d)(4).

Dated: July 29, 2011.
Ronald K. Lorentzen,
Deputy Assistant Secretary for Import Administration.

[FR Doc. 2011-20076 Filed 8-5-11; 8:45 am]

BILLING CODE 3510-DS-P